DEPARTMENT OF AGRICULTURE

Forest Service

Divide Ranger District, Rio Grande National Forest; Colorado; Big Moose Vegetation Management Project

AGENCY: Forest Service, Rio Grande National Forest, USDA.

ACTION: Corrected Notice of Intent to prepare an environmental impact statement.

DATES: The draft environmental impact statement is expected in the fall of 2010 and the final environmental impact statement is expected in the spring of 2011.

FOR FURTHER INFORMATION CONTACT: Kirby Self at (719) 657-3321. Individuals who use telecommunication devices for the deaf (TDD) may call the Federal Information Relay Service (FIRS) at 1-800-877-8339 between 8 a.m. and 8 p.m., Eastern Time, Monday through Friday.

SUPPLEMENTARY INFORMATION: All prior notices: The original Notice of Intent was published in the Federal Register, Volume 74, Number 39, page 9076.

Authority: 40 CFR 1501.7 and 1508.22, 36 CFR 220.5(b) and Forest Service Handbook 1909.15, Section 21.

Dated: August 25, 2010.
Thomas Malecek,
District Ranger/Field Office Manager.

[FR Doc. 2010-22037 Filed 9-2-10; 8:45 am]

BILLING CODE 3410-11-P